MERIT SYSTEMS PROTECTION BOARD

Agency Information Collection Activities: Proposed Collection; Comment Request; Generic Clearance for the Collection of Qualitative Feedback on Agency Service Delivery

AGENCY: U.S. Merit Systems Protection Board.

ACTION: Notice and request for comments.

SUMMARY: This notice announces that the U.S. Merit Systems Protection Board (MSPB) will submit the information collection abstracted below, OMB No. 3124-0015, to the Office of Management and Budget (OMB) for review and clearance of an extension, without change, of a currently approved collection in accordance with the requirements of the Paperwork Reduction Act of 1995. MSPB's Information Collection Request (ICR) is set to expire on April 30, 2018. The ICR describes the nature of the information collection and its expected burden. This information collection was developed as part of a Federal Government-wide effort to streamline the process for seeking feedback from the public on service delivery.

DATES: Consideration will be given to all comments received by May 2, 2018.

ADDRESSES: Submit written comments on the proposed information collection to the MSPB Desk Officer, Office of Information and Regulatory Affairs, Office of Management and Budget, 735 17th Street NW, Washington, DC 20503.

Written comments may also be submitted by Fax: 202-395-5806; or by email to oira.submission@omb.eop.gov. All comments must reference OMB Control No. 3124-0015. Commenters are encouraged, but not required, to send a courtesy copy of any comments by mail to Merit Systems Protection Board, Office of the Clerk of the Board, 1615 M Street NW, Washington, DC 20419; or by email to mspb@mspb.gov. All submissions received will be posted, without change, to MSPB's website (www.mspb.gov) and will include any personal information you provide. Therefore, submitting this information makes it public.

FOR FURTHER INFORMATION CONTACT: Jennifer Everling, Acting Clerk of the Board, Merit Systems Protection Board, 1615 M Street NW, Washington, DC 20419; phone: (202) 653-7200; fax: (202) 653-7130; or email: mspb@mspb.gov. You may contact the Office of the Clerk of the Board for copies of the proposed collection of information at: mspb@mspb.gov.

SUPPLEMENTARY INFORMATION: This proposed information collection previously was published in the Federal Register on January 9, 2018, at 83 FR 2821 with a 60-day public comment period. No comments were received. The purpose of this 30-day notice is to notify the public that MSPB will submit the information collection abstracted below to the Office of Management and Budget for review and clearance.

Information Collection Requirement:

Title: Generic Clearance for the Collection of Qualitative Feedback on Agency Service Delivery.

OMB Number: 3124-0015.

Type of Information Collection: Extension, without change, of a currently approved collection.

ICR Status: This ICR is currently scheduled to expire on April 30, 2018. An Agency may not conduct or sponsor, and a person is not required to respond to, a collection of information, unless it displays a currently valid OMB control number.

Abstract of Proposed Collection: This collection is part of a Federal Government-wide effort to streamline the process for seeking feedback from the public on service delivery and provides a means to obtain qualitative customer and stakeholder feedback in an efficient, timely manner, in accordance with MSPB's commitment to improving service delivery. Responses to any collection of information under this ICR are voluntary.

Affected Public: Individuals and Households; Businesses and Organizations; State, Local or Tribal Government.

Estimated Total Number of Respondents: 3,000.

Estimated Frequency of Responses: Once per request.

Estimated Total Average Number of Responses for Each Respondent: 1.

Estimated Total Annual Burden Hours: 1,500.

Estimated Total Cost: $50,100.

Comments: Comments should be submitted as indicated in the ADDRESSES caption above. Comments are solicited to: (a) Evaluate whether the collection of information is necessary for the proper performance of the functions of MSPB, including whether the information shall have practical utility; (b) evaluate the accuracy of MSPB's estimate of the burden of the collection of information; (c) enhance the quality, utility, and clarity of the information to be collected; (d) minimize the burden of the collection of information on respondents, including through the use of automated collection techniques or other forms of information technology; and (e) evaluate the estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Jennifer Everling,
Acting Clerk of the Board.

[FR Doc. 2018-06587 Filed 3-30-18; 8:45 am]

BILLING CODE 7400-01-P